DEPARTMENT OF HOMELAND SECURITY

Coast Guard

33 CFR Part 117

[CGD05-04-010]

RIN 1625-AA09

Drawbridge Operation Regulations; Southern Branch of the Elizabeth River, Chesapeake, VA

AGENCY: Coast Guard, DHS.

ACTION: Temporary deviation from regulations.

SUMMARY: The Coast Guard has approved a temporary deviation from the regulations governing the operation of the Jordan Bridge across the Southern Branch of the Elizabeth River, at mile 2.8, in Chesapeake, Virginia. From midnight on January 14, 2004, through midnight on February 14, 2004, this deviation allows the bridge to be untended and maintained in the full open position to vessels while a full assessment of the structural integrity of the bridge is completed. This deviation is necessary to facilitate the needs of navigation caused by an allision with a tug and barge that occurred on January 3, 2004.

DATES: This deviation is effective from midnight on January 14, 2004, through midnight on February 14, 2004.

FOR FURTHER INFORMATION CONTACT: Bill Brazier, Bridge Management Specialist, Fifth Coast Guard District, at (757) 398-6422.

SUPPLEMENTARY INFORMATION: On January 3, 2004, the Jordan Bridge experienced severe damage as a result of an allision with a tug and barge. This 75-year old vertical-lift drawbridge, which spans the Southern Branch of the Elizabeth River, was struck nearly dead center causing significant damage to the bridge. The Jordan Bridge, which connects the cities of Chesapeake and Portsmouth, is owned and operated by the City of Chesapeake.

The structural impact of the mishap essentially knocked the bridge, which rises vertically between two towers, off its track locking the span approximately 80 feet in the air. Subsequently, waterway passage maintained a 75-foot vertical height restriction and efforts to realign the bridge span were completed on January 12, 2004. On January 13, 2004, the damaged bridge was raised to the full open position to 145 feet, at mean high water, and the Captain of the Port of Hampton Roads lifted all waterway restrictions on the Jordan Bridge allowing all vessel traffic to transit. Until a full assessment of the damages to Jordan Bridge is completed, the bridge will be maintained in the full open position to vessels and untended, except for two days, from midnight on January 14, 2004, through midnight on February 14, 2004. On January 22 and 23, 2004, the bridge will be lowered for repair inspections. During these two days the bridge will be tended and will operate as required by the regulations in 33 CFR 117.997(b).

The District Commander has granted temporary deviation from the operating requirements listed in 33 CFR 117.997(b) to allow all vessel traffic to transit until a full assessment of Jordan Bridge is completed. The temporary deviation allows the Jordan Bridge across the Southern Branch of the Elizabeth River, mile 4.0, to remain in the full open position to vessels from midnight on January 14, 2004, through midnight on February 14, 2004, except for January 22 and 23, 2004.

Dated: January 15, 2004.
Waverly W. Gregory, Jr.,
Chief, Bridge Administration Section, Fifth Coast Guard District.

[FR Doc. 04-1611 Filed 1-26-04; 8:45 am]

BILLING CODE 4910-15-P